NATIONAL SCIENCE FOUNDATION

45 CFR Part 680

RIN 3145-AA51

National Science Foundation Rules of Practice and Statutory Conflict-of-Interest Exemptions

AGENCY: National Science Foundation.

ACTION: Final rule.

SUMMARY: The National Science Foundation (NSF) is amending its regulations to remove the provisions concerning statutory conflict-of-interest exemptions.

DATES: The final rule is effective on January 21, 2011.

FOR FURTHER INFORMATION CONTACT: Robin Clay, Deputy Ethics Official, Office of the General Counsel, National Science Foundation, 4201 Wilson Boulevard, Room 1265, Arlington, Virginia 22230; Telephone: (703) 292-8060; Facsimile: (703) 292-9041; e-mail: COI@nsf.gov.

SUPPLEMENTARY INFORMATION: The National Science Foundation (NSF) is amending its regulations to remove the provisions in 45 CFR 680.20 (subpart B) in their entirety. On December 18, 1996 (61 FR 66830), the Office of Government Ethics (OGE) issued executive branch-wide regulations on exemptions and waivers for financial interests under 18 U.S.C. 280(b) (codified at 5 CFR part 2640). The portion of the OGE regulations on exemptions under 18 U.S.C. 208(b)(2) supersedes the provisions of subpart B of the NSF regulations (45 CFR part 680).

Background

In accordance with OGE's issuance of the final rule regarding 18 U.S.C. 208(b) exemptions and waivers (5 CFR 2640), the Foundation is issuing this final rule removing 45 CFR part 680 subpart B in its entirety.

Because the Foundation is required to delete the superseded provisions of 45 CFR part 680 subpart B relating to 208(b)(2) exemptions, with no discretion in the matter, the Foundation finds, pursuant to 5 U.S.C. 533(b)(B), that there is good cause not to seek public comment on this rule, as such comment is unnecessary. Furthermore, for the reasons stated above, the Foundation finds, pursuant to 5 U.S.C. 533(d)(3), that good cause exists to make this rule effective upon publication of this notice.

List of Subjects in 45 CFR Part 680

Conflict of interests.

Accordingly, 45 CFR part 680 is amended as follows:

PART 680—NATIONAL SCIENCE FOUNDATION RULES OF PRACTICE

1. The authority citation for part 680 is revised to read as follows:

Authority: 5 U.S.C. 7301; 42 U.S.C. 1870(a); 5 CFR 2635.105(c)(3).

2. The heading of part 680 is revised to read as set forth above.

Subpart B—[Removed and Reserved]

3. Subpart B, consisting of § 680.20, is removed and reserved.

Dated: January 10, 2011.
Lawrence Rudolph,
General Counsel.

[FR Doc. 2011-890 Filed 1-20-11; 8:45 am]

BILLING CODE 7555-01-P